ENVIRONMENTAL PROTECTION AGENCY

40 CFR Part 52

[EPA-R09-OAR-2012-0853; FRL-9832-9]

Revisions to the California State Implementation Plan, Antelope Valley Air Quality Management District, Santa Barbara County Air Pollution Control District, South Coast Air Quality Management District and Ventura County Air Pollution Control District

AGENCY: Environmental Protection Agency (EPA).

ACTION: Final rule.

SUMMARY: EPA is finalizing approval of revisions to the Antelope Valley Air Quality Management District (AVAQMD), Santa Barbara County Air Pollution Control District (SBCAPCD), South Coast Air Quality Management District (SCAQMD) and Ventura County Air Pollution Control District (VCAPCD) portions of the California State Implementation Plan (SIP). This action was proposed in the Federal Register on April 29, 2013 and concerns volatile organic compound (VOC) from motor vehicle and mobile equipment coating operations and from graphic arts operations. We are approving local rules that regulate these emission sources under the Clean Air Act (“CAA” or “the Act”).

DATES: These rules will be effective on October 24, 2013.

ADDRESSES: EPA has established docket number EPA-R09-OAR-2011-0853 for this action. Generally, documents in the docket for this action are available electronically at http://www.regulations.gov or in hard copy at EPA Region IX, 75 Hawthorne Street, San Francisco, California 94105-3901. While all documents in the docket are listed at http://www.regulations.gov, some information may be publicly available only at the hard copy location (e.g., copyrighted material, large maps, multi-volume reports), and some may not be available in either location (e.g., confidential business information (CBI)). To inspect the hard copy materials, please schedule an appointment during normal business hours with the contact listed in the FOR FURTHER INFORMATION CONTACT section.

FOR FURTHER INFORMATION CONTACT: Adrianne Borgia, EPA Region IX, (415) 972-3576, borgia.adrianne@epa.gov.

SUPPLEMENTARY INFORMATION: Throughout this document, “we,” “us” and “our” refer to EPA.

Table of Contents

I. Proposed Action

II. Public Comments and EPA Responses

III. EPA Action

IV. Statutory and Executive Order Reviews

I. Proposed Action

On April 29, 2013 (78 FR 25011), EPA proposed to approve the following rules into the California SIP.

Local agency | Rule # | Rule title | Amended/ revised | Submitted
AVAQMD | 1151 | Motor Vehicle and Mobile Equipment Coating Operations | Amended 6/19/12 | 9/21/12
SBCAPCD | 339 | Motor Vehicle and Mobile Equipment Coating Operations | Revised 6/19/08 | 10/20/08
SCAQMD | 1151 | Motor Vehicle and Mobile Equipment Non-Assembly Line Coating Operations | Amended 12/2/05 | 4/6/09
VCAPCD | 74.18 | Motor Vehicle and Mobile Equipment Coating Operations | Revised 11/11/08 | 3/17/09
VCAPCD | 74.19 | Graphic Arts | Revised 6/14/11 | 9/27/11

We proposed to approve these rules because we determined that they complied with the relevant CAA requirements. Our proposed action contains more information on the rules and our evaluation.

II. Public Comments and EPA Responses

EPA's proposed action provided a 30-day public comment period. During this period, we received no comments.

III. EPA Action

No comments were submitted. Therefore, as authorized in section 110(k)(3) of the Act, EPA is fully approving these rules into the California SIP.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

List of Subjects in 40 CFR Part 52

Environmental protection, Air pollution control, Incorporation by reference, Intergovernmental relations, Reporting and recordkeeping requirements, Volatile organic compounds.

Dated: June 26, 2013.
Alexis Strauss,
Acting Regional Administrator, Region IX.

Part 52, Chapter I, Title 40 of the Code of Federal Regulations is amended as follows:

PART 52—APPROVAL AND PROMULGATION OF IMPLEMENTATION PLANS

1. The authority citation for Part 52 continues to read as follows:

Authority: 42 U.S.C. 7401 et seq.

Subpart F—California

2. Section 52.220, is amended by adding paragraphs (c)(361)(i)(A)(3), (c)(363)(i)(E), (c)(366)(i)(B)(4), (c)(404)(i)(C)(2) and (c)(423)(i)(D)(2) to read as follows:

§ 52.220 Identification of plan.

* * * * *

(c) * * *

(361) * * *

(i) * * *

(A) * * *

(3) Rule 339, “Motor Vehicle and Mobile Equipment Coating Operations,” revised on June 19, 2008.

* * * * *

(363) * * *

(i) * * *

(E) Ventura County Air Pollution Control District.

(1) Rule 74.18, “Motor Vehicle and Mobile Equipment Coating Operations,” revised on November 11, 2008.

* * * * *

(366) * * *

(i) * * *

(B) * * *

(4) Rule 1151, “Motor Vehicle and Mobile Equipment Non-Assembly Line Coating Operations,” amended on December 2, 2005.

* * * * *

(404) * * *

(i) * * *

(C) * * *

(2) Rule 74.19, “Graphic Arts,” revised on June 14, 2011.

* * * * *

(423) * * *

(i) * * *

(D) * * *

(2) Rule 1151, “Motor Vehicle and Mobile Equipment Coating Operations,” amended on June 19, 2012.

* * * * *

[FR Doc. 2013-23062 Filed 9-23-13; 8:45 am]

BILLING CODE 6560-50-P